DEPARTMENT OF HEALTH AND HUMAN SERVICES

Centers for Disease Control and Prevention

[30Day-21-0900]

Agency Forms Undergoing Paperwork Reduction Act Review

In accordance with the Paperwork Reduction Act of 1995, the Centers for Disease Control and Prevention (CDC) has submitted the information collection request titled Contact Investigation Outcome Reporting Forms to the Office of Management and Budget (OMB) for review and approval. CDC previously published a “Proposed Data Collection Submitted for Public Comment and Recommendations” notice on March 8, 2021 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Contact Investigation Outcome Reporting Forms (OMB Control No. 0920-0900, Exp. 05/31/2021)—Revision—National Center for Emerging Zoonotic and Infectious Diseases (NCEZID), Centers for Disease Control and Prevention (CDC).

Background and Brief Description

CDC proposes to collect passenger-level, epidemiologic, demographic, and health status data from state/local Health Departments and maritime operators at the conclusion of contact investigations of individuals believed to have been exposed to a communicable disease during travel. The information requested by CDC would be obtained by the health departments or maritime operators while conducting the contact investigation according to their established policies and procedures, and would be reported to CDC on a voluntary basis. This information will assist CDC in fulfilling its regulatory responsibility to prevent the importation of communicable diseases from foreign countries (42 CFR part 71) and interstate control of communicable diseases in humans (42 CFR part 70).

CDC provides state and local health departments and maritime conveyance operators with information to notify and contact individuals, and to further investigate this exposure by contacting others who may have been potentially exposed to disease. However, there currently is no standardized tool or form to collect pertinent information regarding the outcome of such investigations.

To address the need to inform CDC of additional actions that may be needed to further protect public health based on the outcome of the contact investigations, CDC has developed forms to assist health departments and maritime conveyance operators in reporting back to CDC. The forms are specific to the nature of the investigation; Tuberculosis (TB), Measles, and Rubella, or the General form for other diseases of public health concern. The purpose of the forms is the same: To collect information to help CDC quarantine officials to fully understand the extent of disease spread and transmission during travel, and to inform the development of and/or refinement of investigative protocols, aimed at reducing the spread of communicable disease.

Respondents are state and local health departments and maritime conveyance operators. Respondents may use these standardized forms to submit data voluntarily to CDC for each individual contacted via a secure means of their choice (e.g., web-based application, fax or email). CDC requests approval for an estimated 1,422 annual burden hours. There is no cost to respondents other than their time to complete the forms and submit the data to CDC.

Estimated Annualized Burden Hours
Type of respondent | Form name | Number of respondents | Number of responses per respondent | Average burden per response
Cruise Ship Physicians/Cargo Ship Managers | Clinically Active TB Contact Investigation Outcome Reporting Form—Maritime | 15 | 1 | 20/60
Cruise Ship Physicians/Cargo Ship Managers | Varicella Investigation Outcome Reporting Form—Maritime | 20 | 1 | 20/60
Cruise Ship Physicians/Cargo Ship Managers | Influenza Like Illness Investigation Outcome Reporting Form—Maritime | 30 | 1 | 20/60
State/Local public health staff | General Contact Investigation Outcome Reporting Form—Air | 16,672 | 1 | 5/60
State/Local public health staff | TB Contact Investigation Outcome Reporting Form—Air | 38 | 1 | 5/60
State/Local public health staff | Measles Contact Investigation Outcome Reporting Form—Air | 73 | 1 | 5/60
State/Local public health staff | Rubella Contact Investigation Outcome Reporting Form—Air | 5 | 1 | 5/60
State/Local public health staff | General Contact Investigation Outcome Reporting Form—Land | 15 | 1 | 5/60

Jeffrey M. Zirger,
Lead, Information Collection Review Office, Office of Scientific Integrity, Office of Science, Centers for Disease Control and Prevention.

[FR Doc. 2021-11319 Filed 5-27-21; 8:45 am]

BILLING CODE 4163-18-P